DEPARTMENT OF COMMERCE

Bureau of Industry and Security

15 CFR Parts 740, 772, and 774

[Docket No. 220105-0004]

RIN 0694-AH56

Information Security Controls: Cybersecurity Items; Delay of Effective Date

AGENCY: Bureau of Industry and Security, Commerce.

ACTION: Interim final rule; delay of effective date.

SUMMARY: On October 21, 2021, the Bureau of Industry and Security (BIS) published an interim final rule that establishes new controls on certain cybersecurity items for National Security (NS) and Anti-terrorism (AT) reasons, along with a new License Exception, Authorized Cybersecurity Exports (ACE), that authorizes exports of these items to most destinations except in the circumstances described in that rule. That rule was published with a 45-day comment period, which ended on December 12, 2021, and a 90-day delayed effective date (January 19, 2022). This rule delays the effective date of the interim final rule by 45 days.

DATES: As of January 12, 2022, the effective date for the interim final rule published October 21, 2021, at 86 FR 58205, is delayed to March 7, 2022.

FOR FURTHER INFORMATION CONTACT: For questions regarding the Export Control Classification Numbers (ECCNs) included in this rule or License Exception ACE, contact Aaron Amundson at 202-482-0707 or email Aaron.Amundson@bis.doc.gov.

SUPPLEMENTARY INFORMATION:

Background

In response to the interim final rule published on October 21, 2021 (86 FR 58205), which implements new controls on certain cybersecurity items for National Security (NS) and Anti-terrorism (AT) reasons, along with a new License Exception, Authorized Cybersecurity Exports (ACE), BIS received twelve comments before the end of the comment period on December 12, 2021. The submitted comments are posted at regulations.gov under ID BIS-2020-0038. Based on issues raised by some of the public comments, BIS may consider some modifications for the final rule. Some of the comments described the necessary compliance measures that industry would have to complete to comply with the October 21, 2021 rule and, on that basis, requested that BIS delay the rule's effective date in order to allow industry sufficient time to update the requisite compliance procedures and for BIS to provide additional public guidance. BIS agrees that it is important to allow enough time for industry to implement the compliance measures and procedures necessary to comply with the published interim final rule, as well as for BIS to provide the public with additional guidance. Therefore, BIS is delaying the effective date of the October 21, 2021 interim final rule by 45 days, to March 7, 2022. This action does not extend or reopen the comment period for BIS's previous request for comments on the interim final rule.

Export Control Reform Act of 2018

On August 13, 2018, the President signed into law the John S. McCain National Defense Authorization Act for Fiscal Year 2019, which included the Export Control Reform Act of 2018 (ECRA), 50 U.S.C. Sections 4801-4852. ECRA provides the legal basis for BIS's principal authorities and serves as the authority under which BIS issues this action.

Thea D. Rozman Kendler,
Assistant Secretary for Export Administration.

[FR Doc. 2022-00448 Filed 1-11-22; 8:45 am]

BILLING CODE 3510-33-P